DEPARTMENT OF LABOR

Office of the Secretary

International Labor Reporting Initiative

AGENCY: Bureau of International Labor Affairs, Department of Labor.

ACTION: Notice of availability of funds and solicitation for cooperative agreement applications (SGA 02-24).

This notice contains all of the necessary information and forms needed to apply for cooperative agreement funding.

SUMMARY: The U.S. Department of Labor (USDOL), Bureau of International Labor Affairs (ILAB), will award funds for up to three cooperative agreements to an organization or organizations to develop and implement projects to assist ILAB, as mandated by its 2002 Congressional Appropriation, to build its permanent capacity to monitor and report regularly and in-depth to the Congress on the extent to which foreign countries with trade and investment agreements with the United States respect internationally recognized worker rights and promote core labor standards. USDOL is seeking applications from qualified organizations for the implementation of innovative, effective, and sustainable approaches to quality information gathering at the global, regional, or national level.

DATES: The closing date for receipt of applications is September 11, 2002. Applications must be received by 4:45 p.m. Eastern Daylight Savings Time (EDST) at the address below. No exceptions to the mailing, delivery, and hand-delivery conditions set forth in this notice will be granted. Applications that do not meet the conditions set forth in this notice will not be honored.

ADDRESSES: Application forms will not be mailed. They are published in this Federal Register Notice, and in the Federal Register which may be obtained from your nearest U.S. Government office, public library or on-line at http://www.archives.gov/federal_register/index.html. Applications must be delivered to: U.S. Department of Labor, Procurement Services Center, 200 Constitution Avenue, NW, Room N-5416, Attention: Lisa Harvey, Reference: SGA 02-24, Washington, D.C. 20210. Applications sent by e-mail, telegram, or facsimile (FAX) will not be accepted. Applications sent by other delivery services, such as Federal Express, UPS, etc., will be accepted; however, the applicant bears the responsibility for timely submission.

FOR FURTHER INFORMATION CONTACT: Lisa Harvey: E-mail address: harvey-lisa@dol.gov. All applicants are advised that U.S. mail delivery in the Washington, DC area has been slow and erratic due to the recent concerns involving anthrax contamination. All applicants must take this into consideration when preparing to meet the application deadline. It is recommended that you confirm receipt of your application by contacting Lisa Harvey, U.S. Department of Labor, Procurement Services Center, telephone (202) 693-4570 (this it not a toll free number), prior to the closing deadline. All inquiries should reference SGA 02-24. See Section III. C for further information.

SUPPLEMENTARY INFORMATION: ILAB is seeking innovative, reliable, and sustainable approaches to gathering valid and credible information and data on the extent to which foreign countries with trade and investment agreements with the United States effectively promote core labor standards as embodied in the ILO Declaration on Fundamental Principles and Rights at Work and respect internationally recognized worker rights as currently required under various U.S. laws.

For the purposes of these cooperative agreements, core labor standards and their principles are those outlined in the International Labor Organization's 1998 Declaration of Principles and Rights at Work namely: (1) Freedom of Association and the effective recognition of the right to collective bargaining; (2) the elimination of all forms of forced or compulsory labor; (3) the effective abolition of child labor; and (4) the elimination of discrimination in respect of employment and occupation.

Internationally recognized worker rights, as defined by Section 507 of the Generalized System of Preferences (GSP), include the: (A) The right of association; (B) the right to organize and bargain collectively; (C) a prohibition on the use of any form or forced or compulsory labor; (D) a minimum age for the employment of children; and (E) acceptable conditions of work with respect to minimum wages, hours of work, and occupational safety and health.

ILAB engages in a multitude of activities that demand a clear understanding of countries' national labor laws, systems of enforcement, and current labor practices in regards to international labor standards and acceptable conditions of work. ILAB uses this information in fulfilling its overall mission of participating in the development and implementation of U.S. Government economic, trade and immigration policy.

The cooperative agreement(s) is to be actively managed by ILAB's Office of Foreign Relations to assure achievement of the stated objectives. Applicants are encouraged to be creative in proposing innovative and cost-effective interventions that will have a demonstrable impact on the gathering better quality, and sustainable information at the global, regional, or national levels. Applicants will be expected to complement and coordinate with, but not to duplicate, other existing ILAB efforts at labor monitoring, in particular the National Academy of Science's Committee on Monitoring International Labor Standards¹. Further, applicants are encouraged to draw from and seek to build the capacity of national governments in this framework by cooperating with national institutions that are responsible for implementing labor laws such as the Labor Inspection Departments at Ministries of Labor. The project also looks for proposals that advance democratic institution building through civil society.

¹ The website for the National Academy of Sciences project is: http://www.nas.edu/internationallabor.

I. Background and Project Scope

An understanding of workers' rights and conditions around the world is critical for the United States as it seeks to promote compliance with core labor standards through economic interactions with other countries. The United States' regional and global trade agreements provide the United States and its trading partners with unique opportunities in the global economy. But increased trade also presents a challenge in terms of the breadth of countries in which we need a better understanding of adherence with labor standards and treatment of workers. The United States' commitment to promote compliance with international labor standards and acceptable conditions of work requires a system to measure and understand what actual international labor standards and acceptable conditions of work are required by each country's labor laws, what enforcement compliance mechanisms are used, and their progress on adherence to them.

ILAB has specific responsibility for USDOL's international activities. ILAB, in close cooperation with other government agencies, non-governmental organizations, and businesses, supports the promotion and implementation of internationally recognized labor standards. The goal of these shared activities is to create a prosperous international economy in which workers are allowed their basic democratic rights to organize, to safely work, and to achieve greater economic security. ILAB has been given the charge to develop a resource system for monitoring compliance with international labor standards and acceptable conditions of work.

Successfully developing and implementing such a system is a complex process, requiring expertise, innovation, and objectivity. Approaches may vary but all should emphasize understanding, through some form of measurement, country-level compliance with international standards and acceptable conditions of work. Projects should also put an emphasis on sustainability through national-capacity building.

II. Authority

USDOL is authorized to award and administer this project by the Departments of Labor, Health and Human Services, and Education, and Related Agencies Appropriations Act, 2002, Pub. L. 107-116, 115 Stat. 2177 (2002).

III. Application Process

A. Eligible Applicants

Any commercial, international, or non-profit organization, which may include faith-based organizations, capable of successfully implementing a project to advance labor reporting is eligible for this cooperative agreement. An applicant may partner with one or more organizations to implement a project. In the case of co-applicants, a lead organization must be identified. The capability of an applicant or co-applicants to perform necessary aspects of this solicitation will be determined under Section V.B Rating Criteria.

Please note that eligible cooperative agreement applicants must not be classified under the internal revenue code as a section 501(c)(4) entity. See 26 U.S.C. 501(c)(4). According to the Lobbying Disclosure Act of 1995, as amended 2 U.S.C. 1611, an organization, as described in section 501(c)(4) of the Internal Revenue Code of 1986, that engages in lobbying activities will not be eligible for the receipt of federal funds constituting an award, grant, or loan.

B. Submission of Applications

One (1) ink-signed original, complete application plus two (2) copies of the proposal must be submitted to the U.S. Department of Labor, Procurement Services Center, 200 Constitution Avenue, NW, Room N-5416, Washington, DC 20210, not later than 4:45 p.m. EDST, August 27, 2002.

The application must consist of two (2) separate parts. Part I of the application must contain the Standard Form (SF) 424, “Application for Federal Assistance” (Appendix A) (The entry on SF 424 for the Catalog of Federal Domestic Assistance Number (CFDA) is 17.700) and sections A-F of the Budget Information Form SF 424A (Appendix B). Part II must contain a technical proposal that demonstrates capabilities in accordance with the Statement of Work (Section IV. A) and the selection criteria (Section V. B).

To be considered responsive to this solicitation, the application must consist of the above-mentioned separate sections not to exceed 40 single-sided (8½″ × 11″), double-spaced, 10 to 12 pitch typed pages for which a response is submitted. Any applications that do not conform to these standards may be deemed non-responsive to this solicitation and may not be evaluated. Standard forms and attachments are not included in the page limit. The application must include a table of contents and an abstract summarizing the application in not more than two (2) pages. These pages are also not included in the page limits.

Upon completion of negotiations, the individual signing the SF 424 on behalf of the applicant must be authorized to bind the applicant.

C. Acceptable Methods of Submission

The grant application package must be received at the designated place by the date and time specified or it will not be considered. Any application received at the Office of Procurement Services after 4:45 pm EDST September 11, 2002, will not be considered unless it is received before the award is made and:

1. It was sent by registered or certified mail not later than the fifth calendar day before September 11, 2002;

2. it is determined by the Government that the late receipt was due solely to mishandling by the Government after receipt at the U.S. Department of Labor at the address indicated; or

3. it was sent by U.S. Postal Service Express Mail Next Day Service-Post Office to Addressee, not later than 5:00 pm at the place of mailing two (2) working days, excluding weekends and Federal holidays, prior to September 11, 2002.

The only acceptable evidence to establish the date of mailing of a late application sent by registered or certified mail is the U.S. Postal Service postmark on the envelope or wrapper and on the original receipt from the U.S. Postal Service. If the postmark is not legible, an application received after the above closing time and date shall be processed as if mailed late. “Postmark” means a printed, stamped or otherwise placed impression (not a postage meter machine impression) that is readily identifiable without further action as having been applied and affixed by an employee of the U.S. Postal Service on the date of mailing. Therefore applicants should request that the postal clerk place a legible hand cancellation “bull's eye” postmark on both the receipt and the envelope or wrapper.

The only acceptable evidence to establish the date of mailing of a late application sent by U.S. Postal Service Express Mail Next Day Service-Post Office to Addressee is the date entered by the Post Office receiving clerk on the “Express Mail Next Day Service-Post Office to Addressee” label and the postmark on the envelope or wrapper and on the original receipt from the U.S. Postal Service. “Postmark” has the same meaning as defined above. Therefore, applicants should request that the postal clerk place a legible hand cancellation “bull's-eye” postmark on both the receipt and the envelope or wrapper.

The only acceptable evidence to establish the time of receipt at the U.S. Department of Labor is the date/time stamp of the Procurement Services Center on the application wrapper or other documentary evidence or receipt maintained by that office.

Applications sent by e-mail, telegram, or facsimile (FAX) will not be accepted. Applications sent by other delivery services, such as Federal Express, UPS, etc., will be accepted, however, the applicant bears the responsibility for timely submission. Because of delay in the receipt of mail in the Washington, DC area, it is recommended that you confirm receipt of your application by contacting Lisa Harvey, U.S. Department of Labor, Procurement Services Center, telephone (202) 693-4570 (this is not a toll-free number), prior to the closing deadline. All inquires should reference SGA 02-24.

D. Funding Levels

Approximately U.S. $3 million is budgeted for this project, to fund up to three projects, globally, regionally, or at the national level, with a particular emphasis on countries or areas where the United States has trade and investments interests such as the GSP, the African Growth and Opportunity Act (AGOA), or the Caribbean Basin Trade Partnership Act (CBTPA). Potential bilateral or regional agreements such as the U.S.-Chile Free Trade Agreement or the Free Trade Area of the Americas (FTAA) may also be considered. A partnership of more than one organization may apply to implement the project. Applicants will submit one application and are encouraged to utilize local NGOs and Ministries of Labor to implement much of the project in order to institutionalize and sustain project improvements and reduce costs. The award of any sub-contract will be subject to USDOL approval.

E. Project Duration

The duration of the project(s) funded by this SGA is up to three (3) years. The start date of project activities will be negotiated upon the awarding of the cooperative agreements.

IV. Requirements

A. Statement of Work

In developing their proposals, potential cooperative agreement recipients should develop a strategy designed to elicit better information on national labor laws, their enforcement, and country practices in relation to the core labor standards of: 1. Freedom of Association and effective recognition of the right to collective bargaining; 2. The elimination of all forms of forced or compulsory labor; 3. The effective abolition of child labor; and 4. The elimination of discrimination in respect of employment and occupation. In addition, “acceptable conditions of work” as defined by U.S. trade law (hours of work, minimum wage, and occupational safety and health) may also be included. Projects may address one, several, or all of the standards. Acknowledging the vast differences in economic development across countries, this project is not necessarily seeking comparative data, nor is it interested in the specificity of individual company level information. The strategy may also demonstrate how the applicant proposes to strengthen national capacity by involving Ministries of Labor, labor organizations, employer organizations, and/or NGOs in the implementation of the project. The applicant should draft a strategy demonstrating how it will define and meet the project objectives by the end of the grant period, and how the issue of sustainability will be integral to project implementation. Critical to sustainability will be the need to work cooperatively with stakeholders in the countries, including Ministries/Departments of Labor and Education, trade unions, employer organizations and U.S. Embassies.

The organization or organizations awarded the cooperative agreement(s) (hereinafter referred to as the “grantee”) may be required to work cooperatively with ILAB's current monitoring initiative through the National Academy of Sciences, the Committee on Monitoring International Labor Standards, and that project's resulting database.

B. Deliverables

This section is provided so that applicants may more accurately estimate the staffing budgetary requirements when preparing their proposal.

Following the award of the cooperative agreement(s), grantees shall meet with ILAB at a Post-Award Meeting to discuss the project design, components, and outcomes; ensure complementation of projects without duplication; timelines and coordination; and final approval. At that meeting the grantees and the Department will discuss the specific deliverables. Subject to the nature of the project(s), the applicant will be required to submit copies of the following to USDOL by the specified due dates. Other documents, such as project designs and work plans, are to be submitted by mutually agreed-upon deadlines.

1. Project Designs and Work Plan. The grantee(s) will submit a project document in a format that includes a background/justification section, project strategy (i.e., objectives, outputs, activities, indicators), project timetable, project management organizational chart, project budget, and method to systematically monitor project results. The document will also include sections that cover coordination strategies, project management, and sustainability of project improvements. The project design and corresponding work plan will be drawn, in part, from the proposal written in response to this solicitation.

2. Progress Reports. The grantee(s) must furnish a typed quarterly report to USDOL, no later than 15 days from the last date of each quarter, i.e., 31 March, 30 June, 30 September and 31 December of each year. The grantee(s) must also furnish a separate financial report (SF 272) to USDOL on the same quarterly basis. The report shall contain the following information:

a. An accurate account of activities carried out under project objectives during the reporting period as it relates to the work plan;

b. Major trends in the project that note particular success with a particular activity or trends that indicate a need to re-adjust or expand the work plan;

c. An accounting of staff, sub-contractor hours expended per task, broken down by individual;

d. An accounting of travel performed under the grant during the reporting period, including purpose of trip, persons or organizations contacted, and benefits derived;

e. A description of current problems that may impede performance, and proposed corrective action;

f. For each task in the work plan, a discussion of the work to be performed during the balance of the grant;

g. Lessons learned in project implementation;

h. Future actions planned in support of each project objectives; and

i. Aggregate amount of costs incurred during the reporting period, including estimated expenditures vs. budget.

3. Monitoring and Evaluation. Applicants shall explain their proposed approach for monitoring, including beginning and ending dates for projects, as well as indicators and methods for project evaluation.

4. Final Report with Executive Summary. The grantee shall submit to the USDOL a draft final report with executive summary sixty (60) days prior to grant expiration. The USDOL will review the report and provide comments to the grantee within thirty (30) days after it is received. The final report shall contain sections on the strategy, design, implementation, outcomes, and sustainability of the project including cost information. It shall also contain information on lessons learned and conclusions. It shall be accompanied by an executive summary not exceeding ten (10) pages in length and highlighting the above information. Two hard copies and an electronic version shall be submitted.

C. Production of Deliverables

1. Materials Prepared and Purchased Under the Cooperative Agreement. The grantee(s) must submit to USDOL all media-related and educational materials by it or it's sub-contract developed under this cooperative agreement(s), including relevant press releases, for use in this project(s) before they are reproduced, published, or used. The grantee(s) must consult with USDOL to ensure that materials are compatible with USDOL materials relating to the project, e.g., public relations material such as video and web site. USDOL considers brochures, pamphlets, videotapes, slide-tape shows, curricula, and any other training materials used in the project, educational materials. USDOL will review materials for technical accuracy. USDOL will also review training curricula and purchased training materials for accuracy before they are used. The grantee(s) must obtain prior approval from the Grant Officer for all materials developed or purchased under this cooperative agreement(s). All materials produced by grantee(s) must be provided to USDOL in a digital format for possible publication on the Internet by USDOL.

2. Acknowledgment of USDOL Funding. In all circumstances, the following must be displayed on printed materials:

“Preparation of this item was funded by the United States Department of Labor under Cooperative Agreement No. [insert the appropriate cooperative agreement number].

When issuing statements, press releases, requests for proposals, bid solicitations, and other documents describing projects or projects funded in whole or in part with Federal money, all grantees receiving Federal funds, including State and local governments and recipients of research grants, must clearly state:

a. The percentage of the total costs of the project or project, which will be financed with Federal money;

b. The dollar amount of Federal funds for the project or project; and

c. The percentage and dollar amount of the total costs of the project or project that will be financed by non-governmental sources.

In consultation with USDOL, identification of USDOL's role will be acknowledged in one of the following ways:

a. The USDOL logo may be applied to USDOL-funded material prepared for world-wide distribution, including posters, videos, pamphlets, research documents, national survey results, impact evaluations, best practice reports, and other publications of global interest. The grantee(s) will consult with USDOL on whether the logo should be used on any such items prior to final draft or final preparation for distribution. In no event shall the USDOL logo be placed on any item until USDOL has given the grantee written permission to use the logo, after obtaining appropriate internal USDOL approval for use of the logo on the item.

b. If the USDOL determines the logo is not appropriate and does not give written permission, the following notice must appear on the document:

“This document does not necessarily reflect the views or policies of the U.S. Department of Labor, nor does mention of trade names, commercial products, or organizations imply endorsement by the U.S. Government.”

D. Administrative Requirements

1. General. Grantee organizations will be subject to applicable Federal laws (including provisions of appropriations law) and the applicable Office of Management and Budget (OMB) Circulars. Determinations of allowable costs will be made in accordance with the applicable Federal cost principles, e.g., Non-Profit Organizations—OMB Circular A-122. The cooperative agreement(s) awarded under this SGA will be subject to the following administrative standards and provisions, if applicable:

29 CFR Part 36—Federal Standards for Nondiscrimination on the Basis of Sex in Education Projects or Activities Receiving Federal Financial Assistance.

29 CFR Part 93—New Restrictions on Lobbying.

29 CFR Part 95—Uniform Administrative Requirements for Grants and Agreements with Institutions of Higher Education, Hospitals and Other Non-Profit Organizations, and with Commercial Organizations, Foreign Governments, Organizations Under the Jurisdiction of Foreign Governments and International Organizations.

29 CFR Part 96—Federal Standards for Audit of Federally Funded Grants, Contracts and Agreements.

29 CFR Part 98—Federal Standards for Government-wide Debarment and Suspension (Nonprocurement) and Government-wide Requirements for Drug-Free Workplace (Grants).

29 CRF Part 99—Federal Standards for Audits of States, Local Governments, and Non-Profit Organizations.

2. Sub-contracts. Sub-contracts must be awarded in accordance with 29 CFR 95.40-48. In compliance with Executive Orders 12876 as amended, 13230, 12928, 13021 as amended, the grantee(s) is strongly encouraged to provide sub-contracting opportunities to Historically Black Colleges and Universities, Hispanic-Serving Institutions and Tribal Colleges and Universities and faith based organizations.

3. Key Personnel. The applicant must list the individual(s) who has been designated as having primary responsibility for the conduct and completion of all work in project(s) it proposes. The grantee(s) agrees to inform the (Grants Officer's Technical Representative) GOTR whenever it appears impossible for one or more of these individual(s) to continue work on the project as planned. The grantee(s) may nominate substitute personnel for approval of the GOTR; however, the grantee(s) must obtain prior approval from the Grant Officer for all key personnel. If the Grant Officer determines not to approve the personnel change, he/she reserves the right to terminate the cooperative agreement.

4. Encumbrance of Cooperative Agreement Funds. Cooperative agreement funds may not be encumbered/obligated by the grantee(s) before or after the cooperative agreement period of performance. Encumbrances/obligations outstanding as of the end of the cooperative agreement period may be liquidated (paid out) after the end of the cooperative agreement period. Such encumbrances/obligations may involve only commitments for which a need existed during the cooperative agreement period and which are supported by approved contracts, purchase orders, requisitions, invoices, bills, or other evidence of liability consistent with the grantee(s)'s purchasing procedures and incurred within the cooperative agreement period. All encumbrances/obligations incurred during the cooperative agreement period must be liquidated within 90 days after the end of the cooperative agreement period, if practicable.

5. Site Visits. USDOL, through its authorized representatives, has the right, at all reasonable times, to make site visits to review project accomplishments and management control systems and to provide such technical assistance as may be required. If USDOL makes any site visit on the premises of the grantee(s) or a sub-contractor(s) under this cooperative agreement(s), the grantee(s) must provide and must require its sub-contractors to provide all reasonable facilities and assistance for the safety and convenience of the Government representatives in the performance of their duties. All site visits and evaluations must be performed in such a manner as will not unduly delay the work.

V. Review and Selection of Applications for Cooperative Agreement Award

A. The Review Process

USDOL will screen all applications to determine whether all required elements are present and clearly identifiable. A technical panel will objectively rate each complete application against the criteria described in this announcement. The panel recommendations to the Grant Officer are advisory in nature. The Grant Officer may elect to select one or more grantee on the basis of the initial proposal submission; or, the Grant Officer may establish a competitive or technically acceptable range for the purpose of selecting qualified applicants. If deemed appropriate, following the Grant Officer's call for the preparation and receipt of final revisions of proposals, the evaluation process described above will be repeated to consider such revisions. The Grant Officer will make a final selection determination based on what is most advantageous to the Government, considering factors such as panel findings, geographic presence of the applicants, the availability of funds, the best value to the Government, and other factors. The Grant Officer's determination for award under this SGA 02-24 is final.

Notice: Selection of an organization as a cooperative agreement recipient does not constitute approval of the cooperative agreement application as submitted. Before a actual cooperative agreement is awarded, the Grant Officer will enter into negotiations concerning such items as project components, funding levels, and administrative systems. If the negotiations do not result in an acceptable submission, the Grant Officer reserves the right to terminate the negotiation and decline to fund the proposal.

B. Rating Criteria and Selection

The technical panel will review applicants against the criteria listed below on the basis of 100 points with up to additional five points available for non-federal or leveraged resources.

The criteria are presented in the order of emphasis that they will receive.

1. Approach, Understanding of the Issue, and Budget Plan (50 points).

a. Overview. This section of the proposal must explain the strategy employed by the applicant to achieve results that:

(1) Collect systematic, sustainable information and or data on how countries comply with one or more of the core labor standards of: 1. Freedom of Association and effective recognition of the right to collective bargaining; 2. The elimination of all forms of forced or compulsory labor; 3. The effective abolition of child labor; and 4. The elimination of discrimination in respect of employment and occupation. In addition, ‘acceptable conditions of work’ as defined by U.S. trade law may also be included;

(2) Develop national institutional capacity to simultaneously strengthen adherence to core labor standards and to provide regular, reliable reporting on progress made toward improved compliance;

(3) Complement and coordinate, not duplicate or replicate, ongoing ILAB efforts on labor monitoring, namely the National Academy of Sciences Committee on Monitoring International Labor Standards; and

(4) Produce other expected outcomes over the period of performance for each of the tasks as defined by the applicant.

The applicant must describe in detail the proposed approach, including all tasks and methods to be utilized to implement the project. Also, the applicant must explain the rationale for using this approach. In addition, this section of the proposal must demonstrate the applicant's thorough knowledge and understanding of the core labor standards in the workplace, potential solutions to measuring and monitoring progress toward compliance with them, ability to work with the tripartite partners and NGOs, and any organizational experience in the field of labor monitoring related to the country or countries that are the focus of this initiative.

b. Logical Framework. The strategy should include an outline of the objectives, activities and indicators envisioned for implementation of the project.

c. Implementation Plan. The applicant must submit an implementation plan for the entire project, preferably with a visual such as a Gantt chart. The implementation plan should outline the approach that will be used to implement the project. The plan should list the activities envisioned for the life of the project as well as scheduling of activities by objective starting with the execution of the cooperative agreement and ending with the final report. In describing the implementation plan, the applicant must address the following points:

(1) Describe the use of existing or potential infrastructure and use of qualified personnel, including qualified nationals, to implement the project in the proposed countries or regions. The applicant also must include a project organizational chart, demonstrating management structure, key personnel positions and indicating proposed links with the relevant Government ministries, employer organizations, trade unions and other significant local actors.

(2) Develop a list of activities and explain how each relates to the overall development objective of measuring compliance with the described standard(s).

(3) Explain the strategy for researching and measuring progress on the compliance with the standards.

(4) Demonstrate how the applicant will strengthen national institutions and policies related to the core labor standards.

(5) Demonstrate how the applicant will systematically report on project performance to measure the achievement of the project objective(s).

d. Management and Staff Loading Plan. This section must also include a management and staff plan. The management plan should include the following:

(1) A project organization chart and accompanying narrative which differentiates between elements of the applicant's staff and sub-contractors or consultants who will be retained;

(2) A description of the functional relationship between elements of the project's organization; and

(3) The identity of the individual responsible for project management and the lines of authority between this individual and other elements of the project.

The staff loading plan must identify all key tasks and the person-days required to complete each task. Labor estimates for each task must be broken down by individuals assigned to the task, including sub-contractors and consultants. All key tasks must be charted to show time required to perform them by months or weeks.

This section will be evaluated in accordance with applicable Federal laws and regulations. The budget must comply with Federal cost principles (which can be found in the applicable OMB Circulars) and with ILAB budget requirements contained in the application instructions in Section III of this solicitation.

e. Budget Plan. The applicant must develop a proposed budget for implementation of the project. This section of the application must explain the costs for performing all of the requirements presented in this solicitation and for producing all required reports and other deliverables presented in this solicitation; costs must include labor, training, material production and dissemination, equipment, travel and other related costs. The budget plan will be evaluated solely for the purpose of determining the efficient and effective allocation of funding for proposed project implementation. Preference may be given to applicants with low administrative costs. Administrative costs shall be reflected separately on the budget plan from project costs.

2. Experience and Qualifications of the Applicant (25 points).

The evaluation criteria in this category are as follows:

a. The applicant, including any partners, must demonstrate a thorough understanding of and experience with the application of the core labor standards, as described above, and potential ways to measure country progress on their implementation; research capabilities; working directly with government Ministries, employers organizations, trade unionists and other local organizations, e.g., NGOs or community or faith-based groups. The applicant must submit a signed letter of agreement between its partners or co-applicants verifying the intention of the parties to work together to implement the project.

b. The capability of the applicant(s) for the labor reporting project may be demonstrated by one or more staff member assigned to oversee the project with experience in the following area:

(1) Core Labor Standards and their application;

(2) In-depth social science research capacity; and

(3) Coordination with the Ministries of Labor and Education, Employer Organizations, non-governmental organizations and Trade Union officials.

c. The applicant(s) must also demonstrate either that it has an international system of operations either by affiliates or by agreement in the regions or that it has an effective system of operations in each designated country. These contacts must enable the applicant(s) to demonstrate that it can perform in the proposed regions or countries.

3. Experience and Qualifications of Key Personnel (25 points). This section of the application must include sufficient information for judging the quality and the competence of key staff proposed to be assigned to the project(s) proposed to assure that they meet the required qualifications. Successful performance of the proposed work depends heavily on the qualifications of the individuals committed to the project. Accordingly, in its evaluation of the applicant's proposal, USDOL will place emphasis on the applicant's commitment of key personnel qualified for the work involved in accomplishing the assigned tasks. Information provided on the experience and educational background of personnel must indicate the following:

a. The identity of key personnel assigned to the project. “Key personnel” are staff who are essential to the successful operation of the project and completion of the proposed work and, therefore, may not be replaced or have their hours reduced without the approval of the Grant Officer.

b. The educational background and experience of all staff to be assigned to the project.

c. The special capabilities of staff that demonstrate prior experience in organizing, managing and performing similar efforts.

d. The current employment status of staff and availability for this project. The applicant must also indicate whether the proposed work will be performed by persons currently employed or is dependent upon planned recruitment or sub-contracting.

Note that management and professional technical staff members comprising the applicant's proposed team should be individuals who have prior experience with organizations working in similar efforts, and are fully qualified to perform work specified in the Statement of Work. Where sub-contractors or outside assistance is proposed, organizational control should be clearly delineated to ensure responsiveness to the needs of USDOL. Key personnel must sign letters of agreement to serve on the project, and indicate availability to commence work within three weeks of grant award.

The following information must be furnished:

a. The applicant must designate a Project Director to oversee the project(s) and other key personnel to perform the requirements for the International Labor Reporting Project. The Project Director must have a minimum of three years of professional experience in a field related to this initiative.

b. The applicant should specify other personnel proposed to carry out the requirements of this solicitation.

c. An organization chart showing the applicant's proposed organizational structure for performing task requirements for the project(s) proposed, along with a description of the roles and responsibilities of all key personnel proposed for this project(s). The chart should also differentiate between elements of the applicant's staff and sub-contractors or consultants who will be retained.

d. The applicant must identify all key tasks and the person-days required to complete each task. Labor estimates for each task must be broken down by individuals assigned to the task, including sub-contractors and consultants. All key tasks must be charted to show time required to perform them by months or weeks.

e. A résumé for each of the key personnel to be assigned to the project. At a minimum, each resume must include: the individual's current employment status and previous work experience, including position title, duties performed, dates in position, employing organizations and educational background. Duties must be clearly defined in terms of role performed, e.g., manager, team leader, consultant, etc. (Résumés must be included as attachments, which do not count against the page limitation).

5. Leveraging of Funding (5 points). USDOL will give up to five (5) additional rating points to applications that include non-Federal resources that significantly expand the dollar amount, size and scope of the proposal. These programs will not be financed by the project but can complement and enhance project objectives. The applicant may include any leveraging or co-funding anticipated. To be eligible for additional points under this criterion, the applicant must list the source(s) of funds, the nature, and activities anticipated with these funds under this cooperative agreement, and any partnerships, linkages or coordination of activities, and/or cooperative funding.

This stated commitment will be incorporated into the text of the cooperative agreement with the selected applicant(s).

Signed at Washington, DC, this seventh day of August, 2002.
Lawrence J. Kuss,
Grant Officer.

Attachments:

Appendix A: SF 424—Application Form

Appendix B: Budget Information Sheet

BILLING CODE 4510-29-P

[FR Doc. 02-20463 Filed 8-12-02; 8:45 am]

BILLING CODE 4510-28-C